DEPARTMENT OF HEALTH AND HUMAN SERVICES

National Institutes of Health

National Institute of Environmental Health Sciences; Amended Notice of Meeting

Notice is hereby given of a change in the meeting of the National Advisory Environmental Health Sciences Council, September 13, 2021, 11:00 a.m. to September 14, 2021, 04:45 p.m., National Institute of Environmental Health Science, Durham, NC 27709 which was published in the Federal Register on August 16, 2021, FR Doc 2021-17410, 86 FR 45742.

This notice is being amended to change the meeting date from September 13-14, 2021 to September 13, 2021. The start time for open session is also amended and will now start at 11:45 a.m. and adjourn at 5:15 p.m. The meeting is partially closed to the public.

Dated: August 16, 2021.
David Freeman,
Program Analyst, Office of Federal Advisory Committee Policy.

[FR Doc. 2021-17819 Filed 8-18-21; 8:45 am]

BILLING CODE 4140-01-P